COMMITTEE FOR PURCHASE FROM PEOPLE WHO ARE BLIND OR SEVERELY DISABLED

Procurement List; Proposed Additions

AGENCY: Committee for Purchase from People Who Are Blind or Severely Disabled.

ACTION: Proposed additions to Procurement List.

SUMMARY: The Committee is proposing to add to the Procurement List products and services to be furnished by nonprofit agencies employing persons who are blind or have other severe disabilities.

COMMENTS MUST BE RECEIVED ON OR BEFORE: April 29, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C. 47(a)(2) and 41 CFR 51-2.3. Its purpose is to provide interested persons an opportunity to submit comments on the possible impact of the proposed actions.

If the Committee approves the proposed additions, the entities of the Federal Government identified in the notice for each product or service will be required to procure the products and services listed below from nonprofit agencies employing persons who are blind or have other severe disabilities.

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-ODay Act (41 U.S.C. 46-48c) in connection with the products and services proposed for addition to the Procurement List. Comments on this certification are invited. Commenters should identify the statement(s) underlying the certification on which they are providing additional information.

The following products and services are proposed for addition to Procurement List for production by the nonprofit agencies listed:

Products

Product/NSN: Catheter, External, Male, Self-Adhering, Wide-band/6530-00-NIB-0060.

Product/NSN: Catheter, External, Male, Self-Adhering, Pop-on/6530-00-NIB-0061.

Product/NSN: Catheter, External, Male, Self-Adhering, Pop-on /6530-00-NIB-0062.

Product/NSN: Catheter, External, Male, Self-Adhering, Pop-on /6530-00-NIB-0063.

Product/NSN: Catheter, External, Male, Self-Adhering, Pop-on /6530-00-NIB-0064.

Product/NSN: Catheter, External, Male, Self-Adhering, Pop-on /6530-00-NIB-0065.

Product/NSN: Catheter, External, Male, Self-Adhering, Wide-band/6530-00-NIB-0066.

Product/NSN: Catheter, External, Male, Self-Adhering, Wide-band/6530-00-NIB-0067.

Product/NSN: Catheter, External, Male, Self-Adhering, Wide-band/6530-00-NIB-0068.

Product/NSN: Catheter, External, Male, Self-Adhering, Wide-band/6530-00-NIB-0069.

NPA: Lighthouse for the Blind, St. Louis, MO.

Contract Activity: Department of Veterans Affairs Acquisition Center, Hines, IL.

Product/NSN: Floor Stripper LO/7930-00-NIB-0124.

Product/NSN: 3-1 Floor Cleaner/7930-00-NIB-0216.

Product/NSN: Quat Disinfectant Cleaner/7930-00-NIB-0267.

Product/NSN: Heavy Duty Aircraft Cleaner/7930-01-381-5794.

Product/NSN: Bathroom Cleaner/7930-01-381-5820.

Product/NSN: Glass Cleaner/7930-01-381-5826.

Product/NSN: General Purpose Cleaner/7930-01-381-5834.

Product/NSN: Neutral Cleaner/7930-01-381-5897.

Product/NSN: Food Service Degreaser/7930-01-381-5936.

Product/NSN: Heavy Duty Multi Surface Cleaner/7930-01-381-5997.

Product/NSN: Fresh Scent Deodorizer/7930-01-412-1033.

Product/NSN: Mountain Space Deodorizer/7930-01-412-1034.

Product/NSN: Sanitizer Cleaner/7930-01-412-1036.

Product/NSN: Phenolic Disinfectant/7930-01-436-7950.

Product/NSN: Non Acid Bathroom Cleaner/7930-01-436-8083.

NPA: Blind Industries & Services of Maryland, Baltimore, MD.

Contract Activity: Office Supplies & Paper Products Commodity Center, New York, NY.

Product/NSN: Kit, Employee Start, Up/7520-01-493-6006.

NPA: Blind Industries & Services of Maryland, Baltimore, MD.

Contract Activity: Office Supplies & Paper Products Commodity Center, New York, NY.

Product/NSN: Sunscreen Preparation, Gel or Lotion/6505-01-121-2336.

NPA: ACT CORP., Daytona Beach, FL.

Contract Activity: Defense Supply Center—Philadelphia, Philadelphia, PA.

Services

Service Type/Location: Grounds Maintenance/NASA Goddard Space Flight Center, Greenbelt, MD.

NPA: Melwood Horticultural Training Center, Upper Marlboro, MD.

Contract Activity: NASA—Goddard Space Flight Center.

Service Type/Location: Janitorial/Grounds and Related Services/Federal Building, Tucson, AZ.

Service Type/Location: Janitorial/Grounds and Related Services/Motor Pool Office and Garage, Tucson, AZ.

Service Type/Location: Janitorial/Grounds and Related Services/US Border Patrol Sector HQ, Tucson, AZ.

NPA: Tetra Corporation, Tucson, AZ.

Contract Activity: GSA, Public Buildings Service.

Service Type/Location: Switchboard Operation/Veterans Affairs Medical Center, Iowa City, IA.

NPA: Goodwill Industries of Southeast Iowa, Iowa City, IA.

Contract Activity: Veterans Affairs Medical Center, Iowa City, IA.

Sheryl D. Kennerly,
Director, Information Management.

[FR Doc. 02-7641 Filed 3-28-02; 8:45 am]

BILLING CODE 6353-01-P